DEPARTMENT OF COMMERCE

Foreign-Trade Zones Board

[B-53-2021]

Foreign-Trade Zone (FTZ) 93—Raleigh/Durham North Carolina, Authorization of Production Activity, Liebel-Flarsheim Company, LLC (Diagnostic Imaging Contrast Media), Raleigh, North Carolina

On June 30, 2021, the Triangle J Council of Governments, grantee of FTZ 93, submitted a notification of proposed production activity to the FTZ Board on behalf of Liebel-Flarsheim Company, LLC, within FTZ 93, in Raleigh, North Carolina.

The notification was processed in accordance with the regulations of the FTZ Board (15 CFR part 400), including notice in the Federal Register inviting public comment (86 FR 37116, July 14, 2021). On October 28, 2021, the applicant was notified of the FTZ Board's decision that no further review of the activity is warranted at this time. The production activity described in the notification was authorized, subject to the FTZ Act and the FTZ Board's regulations, including Section 400.14.

Dated: October 28, 2021.
Andrew McGilvray,
Executive Secretary.

[FR Doc. 2021-23838 Filed 11-1-21; 8:45 am]

BILLING CODE 3510-DS-P